FEDERAL MINE SAFETY AND HEALTH REVIEW COMMISSION

Sunshine Act Meeting Notice

September 10, 2003.

FEDERAL REGISTER CITATION OF PREVIOUS ANNOUNCEMENT: Vol. 68, No. 175, at 53,400, September 10, 2003.

TIME AND DATE: 10 a.m., Thursday, September 11, 2003.

PLACE: Hearing Room, 9th Floor, 601 New Jersey Avenue, NW., Washington, DC.

STATUS: Open.

CHANGES IN THE MEETING: The Commission meeting to consider and act upon Secretary of Labor v. Cactus Canyon Quarries of Texas, Inc., Docket Nos. CENT 2002-80-M, CENT 2001-285-M, CENT 2001-286-M, CENT 2001-379-M, CENT 2001-363-M, and CENT 2001-364-M, has been cancelled. No earlier announcement of the cancellation was possible.

FOR FURTHER INFORMATION CONTACT: Jean Ellen, (202) 434-9950/(202) 708-9300 for TDD Relay/1-800-877-8339 for toll free.

Jean H. Ellen,
Chief Docket Clerk.

[FR Doc. 03-23845 Filed 9-15-03; 12:17 pm]

BILLING CODE 6735-01-M